CONSUMER PRODUCT SAFETY COMMISSION

16 CFR Chapter II

Regulatory Options for Addressing Upholstered Furniture Flammability; Public Meeting

AGENCY: Consumer Product Safety Commission.

ACTION: Notice of public meeting and request for comments.

SUMMARY: The Consumer Product Safety Commission (CPSC or Commission) will conduct a public meeting June 18-19, 2002 to discuss options for addressing upholstered furniture flammability. The meeting is not a Commission hearing. The focus of the discussions will be the supporting information and draft upholstered furniture flammability standard developed by CPSC staff included in the October 30, 2001 briefing package entitled “Upholstered Furniture Flammability: Regulatory Options,” the progress of outside groups in addressing the same problem, and recent developments in related flammability issues.¹ The Commission invites written comments and oral presentations from individuals, associations, firms, and government agencies with information or comments related to the briefing package. The Commission will evaluate these submissions in its deliberations on the flammability hazards associated with upholstered furniture.

¹ Briefing memorandum from Dale R. Ray, Project Manager, Directorate for Economic Analysis, to the Commission, “Upholstered Furniture Flammability: Regulatory Options,” October 30, 2001. The document may be obtained from the CPSC web site at www.cpsc.gov or from the CPSC Office of the Secretary. The document is also available for inspection at the Commission's Public Reading Room, 4330 East-West Highway, room 419, Bethesda, Maryland 20814. For further information call the Office of the Secretary at (301) 504-0800.

DATES: The meeting will begin at 10:00 a.m. on June 18, 2002, and continue on June 19, 2002. Requests to make oral presentations, and 10 copies of the text of the presentation, must be received by the CPSC Office of the Secretary no later than May 20, 2002. Persons making presentations at the meeting should provide an additional 50 copies for dissemination on the date of the meeting. Written submissions that are in place of, or in addition to oral presentations, must be received by the Office of the Secretary no later than July 18, 2002. Ten copies should be provided.

Presentation texts and other written submissions should identify the author's affiliation with, or employment or sponsorship by, any entity with an interest in the upholstered furniture proceeding. Any data, analyses or studies should include substantiation and citations. The Commission reserves the right to limit the number of persons who make presentations and the duration of their presentations.

ADDRESSES: The meeting will be in room 420 of the East-West Towers Building, 4330 East-West Highway, Bethesda, MD. Written comments, requests to make oral presentations, and texts of oral presentations should be captioned “Upholstered Furniture Flammability Proceeding” and mailed to the Office of the Secretary, Consumer Product Safety Commission, Washington, DC 20207, or delivered to that office, room 502, 4330 East-West Highway, Bethesda, Maryland 20814. Comments, requests, and texts of oral presentations may also be filed by facsimile to (301) 504-0127 or by e-mail to cpsc-os@cpsc.gov.

FOR FURTHER INFORMATION CONTACT: For information about the purpose or subject matter of this meeting contact Dale R. Ray, Project Manager, Directorate for Economic Analysis, U.S. Consumer Product Safety Commission, Washington, DC 20207; telephone (301) 504-0962, extension 1323; fax (301) 504-0109; e-mail dray@cpsc.gov. For information about the schedule for submission of written comments, requests to make oral presentations, and submission of texts of oral presentations, contact Rockelle Hammond, Office of the Secretary, Consumer Product Safety Commission, Washington, DC 20207; telephone (301) 504-0800, extension 1232; fax (301) 504-0127; e-mail rhammond@cpsc.gov.

SUPPLEMENTARY INFORMATION:

A. Background

In 1994, the Commission initiated a regulatory proceeding to address the hazard of small open flame ignitions of upholstered furniture by publication of an advance notice of proposed rulemaking (ANPR). 59 FR 30735 (June 15, 1994). Small open flame sources include, for example, cigarette lighters, matches, and candles. The CPSC staff work indicates that a small open flame performance standard for upholstered furniture could reduce the risk of death, injury, and property loss.

Following issuance of the ANPR, CPSC staff developed a draft performance standard and a test method to evaluate the small open flame performance of upholstered furniture. In October 1997, the staff forwarded a briefing package to the Commission concluding that a small open flame standard was feasible and could effectively reduce the risks to consumers, including risks from both small open flame and cigarette ignitions. Since 1997, the staff has continued to develop the small open flame standard.

The standard that the staff has drafted contains performance requirements for small open flame ignition resistance of seating areas and dust covers of upholstered furniture. It also includes an optional seating barrier test that would allow the use of fire-retardant barriers, or interliners, instead of FR cover fabrics. The seating barrier test is intended to preserve consumer choice among many existing upholstery fabrics. CPSC staff believes that this would give manufacturers flexibility in achieving compliance, and would reduce the potential economic burden of the performance standard, especially for small businesses.

In the 1997 briefing package, the staff recommended that the CPSC gather additional scientific information to ensure that flame retardant (FR) upholstery fabric treatments that manufacturers might use would not result in adverse health effects. In 1998, the Commission held a public hearing on FR chemical issues. Representatives of government, industry, fire safety organizations, and other interested parties testified at the May 5-6, 1998 public hearing, or submitted information about FR chemicals following the hearing. The staff incorporated the information submitted pursuant to the public hearing and all other available scientific data into the FR chemical risk assessment in the October 30, 2001 briefing package. That assessment concluded that four of the eight FR chemicals selected for risk assessment would clearly not be considered hazardous to consumers under the Federal Hazardous Substances Act (FHSA). The assessment also identified one chemical as unlikely to be hazardous, one as hazardous, and two for which additional data were needed.

In the CPSC Fiscal Year 1999 appropriation bill, Congress directed the Commission to sponsor an independent study by the National Academy of Sciences (NAS) of potential health risks from FR chemicals that might be used to meet a flammability standard. The final NAS report was published in July 2000. The NAS study concluded that 8 of the 16 FR chemicals reviewed would present a minimal risk, even under “worst case” exposure assumptions. The NAS recommended further study for the remaining 8 chemicals.

B. The Public Meeting

The purpose of the public meeting is to provide a forum for dialog between Commission staff and interested parties on the work performed to date by the staff in developing a draft small open flame ignition standard for upholstered furniture, the related information developed during that effort, the progress of efforts by outside organizations to address the risk, and recent developments in related flammability issues. The meeting is not a Commission hearing.

Participation in the meeting is open. The CPSC staff will notify specific representatives of identified interest groups such as industry sectors (furniture, fabrics, foam, chemicals), fire safety and government (national, state/local, international), and consumer interests of the meeting. The meeting will be conducted in an open discussion format. Participants may be organized into panels to address specific topics. See the DATES section of this notice for information on making requests to give oral presentations at the meeting and on making written submissions.

C. Meeting Topics

To assist interested parties in deciding on whether and how to participate in the public meeting, or to submit written comments on the staff briefing package, the Commission is providing the following list of topics.

• Fire data & analysis

• Standards development & laboratory testing

• The CPSC staff's draft small open flame standard

• FR chemical testing, analysis & risk assessment

• Economic analysis

• Other standards/harmonization

—California TB-117

—United Kingdom regulations

—Voluntary standards activities

• Industry efforts to develop safer products & materials

• Regulatory alternatives

As indications of interest in making presentations and otherwise participating in the meeting are received, the Commission will revise and update the list of topics.

Dated: March 14, 2002.
Todd A. Stevenson,
Secretary, Consumer Product Safety Commission.

[FR Doc. 02-6633 Filed 3-19-02; 8:45 am]

BILLING CODE 6355-01-P